DEPARTMENT OF TRANSPORTATION

Federal Highway Administration

Rescinding the Notice of Intent for an Environmental Impact Statement: Gilpin, Clear Creek, and Jefferson Counties, CO

AGENCY: Federal Highway Administration, DOT.

ACTION: Notice.

SUMMARY: This notice rescinds the Notice of Intent for preparing an Environmental Impact Statement that was issued on August 11, 2000, for a proposed transportation improvement project in Gilpin, Clear Creek, and Jefferson Counties, Colorado. The action is being taken because there are no federal or state funds identified to make the proposed transportation improvements in this corridor for the next 20 years. It is not known when federal or state funds may become available for these improvements therefore an Environmental Impact Statement will not be prepared until further notice.

FOR FURTHER INFORMATION CONTACT: Ms. Melinda Urban, Operations Engineer, FHWA, Colorado Division, 12300 West Dakota Avenue, Suite 180, Lakewood, CO, 80228, Telephone: (720) 963-3015. Mr. Russel Cox, Resident Engineer, Colorado Department of Transportation Region 1, 425 Corporate Circle, Suite 250, Golden, Colorado 80401, Telephone: (720) 497-6905.

SUPPLEMENTARY INFORMATION: The Federal Highway Administration (FHWA) in cooperation with the Colorado Department of Transportation (CDOT) initiated an Environmental Impact Statement (EIS) with a Notice of Intent August 11, 2000, to improve access into the gaming towns of Blackhawk and Central City along the SH 119 corridor. The FHWA and CDOT have determined that while major transportation improvements along SH 119 are needed, federal, state, or other funds are not available to meet these needs in the foreseeable future. Much work has been completed towards an EIS for this corridor and can serve as a planning foundation for future projects by CDOT.

In late 2008 it became apparent that many transportation needs in the State would be competing for very limited funding. This EIS project was one of six major Denver-area EISs initiated in 2000 with the expectation that funding levels would continue and possibly increase. While the need for a project is an important factor in determining which projects receive funding, those with the greatest public and local-entity support are more likely to receive funding in a fiscally-constrained, long-range plan. As a result, the current long-range plan does not include funding for the improvements considered in the Gaming Area EIS. As such, it is not the best use of limited public funds to complete the NEPA process for this project.

If any entity or authority, public or private, wants to proceed with improvements or connections to state highways in this area in the future, applicable state and federal requirements must be met and established study processes followed to determine feasibility and environmental impacts. In consultation with CDOT and FHWA, the information collected as part of Gaming EIS could support efforts to develop these future NEPA, technical studies, or smaller safety projects. Decision-making for future projects within the SH 119 corridor should consider the purpose and need, alternatives development and evaluation, environmental resource background data, and public and agency coordination that was compiled as part of the EIS process.

Authority: (Catalog of Federal Domestic Assistance Program Number 20.205, Highway Planning and Construction. The regulations implementing Executive Order 12372 regarding intergovernmental consultation on Federal programs and activities apply to this program)

Issued On: March 31, 2010.
Karla S. Petty,
Colorado Division Administrator.

[FR Doc. 2010-7796 Filed 4-6-10; 8:45 am]

BILLING CODE 4910-22-P